DEPARTMENT OF LABOR

Employment and Training Administration

Proposed Information Collection Request Submitted for Public Comment and Recommendations; MIS Reporting Requirements for Youth Opportunity Grants

ACTION: Notice; request for comments.

SUMMARY: The Department of Labor, as part of its continuing effort to reduce paperwork and respondent burden, conducts a pre-clearance consultation program to provide the general public and Federal agencies with an opportunity to comment on proposed and/or continuing collections of information in accordance with the Paperwork Reduction Act of 1995 (PRA95) (44 U.S.C. 3506(c)(2)(A). This program helps to ensure that requested data can be provided in the desired format, reporting burden (time and financial resources) is minimized, collection instruments are clearly understood, and the impact of collection requirements on respondents can be properly assessed. Currently, the Employment and Training Administration is soliciting comments concerning proposed information collection regarding MIS reporting requirements for Youth Opportunity Grants. A copy of the proposed information collection request can be obtained by contacting the employee listed below in the contact section of this notice.

DATES: Written comments must be submitted on or before June 26, 2000. Written comments should:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

ADDRESSES: Gregg Weltz, Employment and Training Administration, U.S. Department of Labor, 200 Constitution Avenue, NW., Room N-4463, Washington, DC 20210, 202-219-5305, extension 168.

SUPPLEMENTARY INFORMATION:

Background

Youth Opportunity Grants concentrate a large amount of resources in high-poverty neighborhoods to increase the employment, high school graduation, and college enrollment rates of youth growing up in these communities. In February, the Department of Labor announced Youth Opportunity awards to 36 urban, rural, and Native American sites. The MIS requirements for these grants will include information on enrollee characteristics, services received, outcomes, retention in jobs and school, and customer satisfaction of enrollees and employers. Youth Opportunity program operators will need to maintain individual records of enrollees, and prepare quarterly data summary reports to the Department of Labor.

Type of Review: Paperwork Reduction.

Agency: Employment and Training Administration.

Title: MIS Requirements for Youth Opportunity Grants.

Affected Public: Local Workforce Investment Boards and Youth Opportunity Service Providers such as community-based organizations, schools, and community colleges.

Total Respondents: 40 Youth Opportunity Grantees and Pilot Sites.

Frequency: Monthly.

Total Responses: 480 each year.

Average Time Per Response: 130 hours. This is based on the following assumptions: Each site will need to enter updated information for an average of 1,250 participant records over the course of a year at an average time of one hour a year, or 104 hours per months. Sites will require an average of 16 hours to prepare each quarterly report. Customer satisfaction surveys will require an average of 10 hours per site per month.

Estimated Total Burden Hours: 62,400 hours.

Estimated Total Burden Cost: $1,572,800 to operate and maintain this MIS system each year, and $800,000 in start-up costs.

Comments submitted in response to this notice will be summarized and/or included in the request for Office of Management and Budget approval of the information collection request; they will also become a matter of public record.

Dated: April 18, 2000.
Lorenzo Harrison,
Acting Administrator, Office of Youth Services.

[FR Doc. 00-10382 Filed 4-25-00; 8:45 am]

BILLING CODE 4510-30-M